DEPARTMENT OF LABOR

Employment and Training Administration

[TA-W-74,142]

World Color Mt. Morris, IL LLC, Premedia Chicago Division, Currently Known as Quad/Graphics, Inc., Including On-Site Leased Workers From Creative Group and Creative Circle, Schaumburg, IL; Amended Certification Regarding Eligibility To Apply for Worker Adjustment Assistance

In accordance with Section 223 of the Trade Act of 1974, as amended (“Act”), 19 U.S.C. 2273, the Department of Labor issued a Certification of Eligibility to Apply for Worker Adjustment Assistance on May 24, 2010, applicable to workers of World Color Mt. Morris, IL LLC, Premedia Chicago Division, including on-site leased workers from The Creative Group and Creative Circle, Schaumburg, Illinois. The notice was published in the Federal Register September 21, 2010 (75 FR 57516).

At the request of the State agency, the Department reviewed the certification for workers of the subject firm. The workers supply prepress services such as creative strategy, concept, design, copywriting, production, proofreading, and project management services.

New information shows that on July 2, 2010, World Color Mt. Morris, IL LLC was purchased by Quad/Graphics, Inc. and is currently known as Quad/Graphics, Inc. Workers separated from employment at World Color Mt. Morris, IL LLC had their wages reported under a separate unemployment insurance (UI) tax account under the name Quad/Graphics, Inc.

Accordingly, the Department is amending this certification to properly reflect this matter.

The intent of the Department's certification is to include all workers of the World Color Mt. Morris, IL LLC, currently known as Quad/Graphics, Inc., who were adversely affected by a shift in services to India and China.

The amended notice applicable to TA-W-74,142 is hereby issued as follows:

All workers of World Color Mt. Morris, IL, LLC, Premedia Chicago Division, currently known as Quad/Graphics, Inc., including on-site leased workers from The Creative Group and Creative Circle, Schaumburg, Illinois, who became totally or partially separated from employment on or after May 21, 2009 through September 2, 2012, and all workers in the group threatened with total or partial separation from employment on date of certification through two years from the date of certification, are eligible to apply for adjustment assistance under Chapter 2 of Title II of the Trade Act of 1974, as amended.

Signed at Washington, DC this 10th day of November 2010.
Elliott S. Kushner,
Certifying Officer, Division of Trade Adjustment Assistance.

[FR Doc. 2010-29100 Filed 11-17-10; 8:45 am]

BILLING CODE 4510-FN-P